DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping and countervailing duty orders and findings with September anniversary dates. In accordance with Commerce's regulations, we are initiating those administrative reviews.

DATES: Applicable November 15, 2018.

FOR FURTHER INFORMATION CONTACT: Brenda E. Brown, Office of AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various antidumping and countervailing duty orders and findings with September anniversary dates.

All deadlines for the submission of various types of information, certifications, or comments or actions by Commerce discussed below refer to the number of calendar days from the applicable starting time.

Notice of No Sales

If a producer or exporter named in this notice of initiation had no exports, sales, or entries during the period of review (POR), it must notify Commerce within 30 days of publication of this notice in the Federal Register. All submissions must be filed electronically at http://access.trade.gov in accordance with 19 CFR 351.303.¹ Such submissions are subject to verification in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the period of review. We intend to place the CBP data on the record within five days of publication of the initiation notice and to make our decision regarding respondent selection within 30 days of publication of the initiation Federal Register notice. Comments regarding the CBP data and respondent selection should be submitted seven days after the placement of the CBP data on the record of this review. Parties wishing to submit rebuttal comments should submit those comments five days after the deadline for the initial comments.

In the event Commerce decides it is necessary to limit individual examination of respondents and conduct respondent selection under section 777A(c)(2) of the Act:

In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this antidumping proceeding (e.g., investigation, administrative review, new shipper review or changed circumstances review). For any company subject to this review, if Commerce determined, or continued to treat, that company as collapsed with others, Commerce will assume that such companies continue to operate in the same manner and will collapse them for respondent selection purposes. Otherwise, Commerce will not collapse companies for purposes of respondent selection. Parties are requested to (a) identify which companies subject to review previously were collapsed, and (b) provide a citation to the proceeding in which they were collapsed. Further, if companies are requested to complete the Quantity and Value (Q&V) Questionnaire for purposes of respondent selection, in general each company must report volume and value data separately for itself. Parties should not include data for any other party, even if they believe they should be treated as a single entity with that other party. If a company was collapsed with another company or companies in the most recently completed segment of this proceeding where Commerce considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at http://enforcement.trade.gov/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Status Application will be available on Commerce's website at http://enforcement.trade.gov/nme/nme-sep-rate.html on the date of publication of this Federal Register notice. In responding to the Separate Rate Status Application, refer to the instructions contained in the application. Separate Rate Status Applications are due to Commerce no later than 30 calendar days of publication of this Federal Register notice. The deadline and requirement for submitting a Separate Rate Status Application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews:

In accordance with 19 CFR 351.221(c)(1)(i), we are initiating administrative reviews of the following antidumping and countervailing duty orders and findings. We intend to issue the final results of these reviews not later than September 30, 2019.

Antidumping duty proceedings | Period to be reviewed
Brazil: Emulsion Styrene Butadiene Rubber A-351-849 | 2/24/17-8/31/18
Arlanxeo Brasil S.A
India: Certain Lined Paper Products A-533-843 | 9/1/17-8/31/18
Cellpage Ventures Private Limited
Goldenpalm Manufacturers PVT Limited
Kokuyo Riddhi Paper Products Private Limited
Lodha Offset Limited
Lotus Global Private Limited
Magic International Pvt. Ltd
Marisa International
Navneet Education Ltd
PB Bafna Ventures Private Limited
Pioneer Stationery Private Limited
SAB International
SGM Paper Products
Super Impex
India: Oil Country Tubular Goods A-533-857 | 9/1/17-8/31/18
GVN Fuels, Ltd
Mexico: Emulsion Styrene-Butadiene Rubber A-201-848 | 2/24/17-8/31/18
Negromex, S.A. de C.V
Mexico: Heavy Walled Rectangular Weld Carbon Steel Pipes and Tubes A-201-847 | 9/1/17-8/31/18
Arco Metal, S.A. de C.V
Forza Steel, S.A. de C.V
Industrias Monterrey, S.A. de C.V
Maquilacero, S.A. de C.V
Perfiles y Herrajes LM, S.A. de C.V
Productos Laminados de Monterrey, S.A. de C.V
PYTCO, S.A. de C.V
Regiomontana de Perfiles y Tubos, S.A. de C.V
Ternium S.A. de C.V
Tuberia Nacional, S.A. de C.V
Tuberias Procarsa S.A. de C.V
Poland: Emulsion Styrene Butadiene Rubber A-455-805 | 2/24/17-8/31/18
Synthos Dwory 7 Spolka Z Orgraniczona Odpowiedzialnoscia Spolka Jawna (SP.ZO.O.S.J.)
Republic of Korea: Cold-Rolled Steel Flat Products A-580-881 | 9/1/17-8/31/18
Hyundai Steel Company
POSCO
Dongbu Steel Co., Ltd
Dongbu Steel Incheon Steel Co., Ltd
Republic of Korea: Emulsion Styrene Butadience Rubber A-580-890 | 2/24/17-8/31/18
LG Chem, Ltd
Daewoo International Corporatin
Kumho Petrochemical Co. Ltd
Sungsan International Co., Ltd
WE International Co., Ltd
Kukje Trading Corp
Hyundai Glovis Co., Ltd
Republic of Korea: Heavy Walled Rectangular Welded Carbon Steel Pipes and Tubes A-580-880 | 9/1/17-8/31/18
Ahshin Pipe & Tube Company
Bookook Steel Co., Ltd
Dong-A Steel Company
Dongbu Steel Co., Ltd
Ganungol Industries Co. Ltd
Hanjin Steel Pipe
HiSteel Co., Ltd
Husteel Co., Ltd
Hyosung Corporation
Hyundai Steel Co
Hyundai Steel Pipe Company
K Steel Co. Ltd
Kukje Steel Co., Ltd
Miju Steel Manufacturing Co., Ltd
NEXTEEL Co., Ltd
POSCO DAEWOO
Sam Kang Industrial Co., Ltd
Sam Kang Industries Co., Ltd
Samson Controls Ltd., Co
SeAH Steel Corporation
Yujin Steel Industry Co. Ltd
Republic of Korea: Oil Country Tubular Goods A-580-870 | 9/1/17-8/31/18
AJU Besteel Co., Ltd
BDP International
Daewoo America
Daewoo International Corporation
Dong Yang Steel Pipe
Dong-A Steel Co. Ltd
Dongbu Incheon Steel
DSEC
Emdtebruecker Eisenwerk and Company
Hansol Metal
Husteel Co., Ltd
Hyundai Steel Company
Hyundai RB
ILJIN Steel Corporation
Jim And Freight Co., Ltd
Kia Steel Co. Ltd
KSP Steel Company
Kukje Steel
Kumkang Kind Co., Ltd
Kurvers
NEXTEEL Co., Ltd
POSCO Daewoo America
POSCO Daewoo Corporation
Samsung
Samsung C and T Corporation
SeAH Besteel Corporation
SeAH Steel Corporation
Steel Canada
Sumintomo Corporation
TGS Pipe
Yonghyun Base Materials
ZEECO Asia
Socialist Republic of Vietnam: Oil Country Tubular Goods A-552-817 | 9/1/17-8/31/18
SeAH Steel Vina Corporation
Pusan Pipe America
Romania: Carbon and Alloy Seamless Standard Line and Pressure Pipe (Under 4½ Inches) ⁵ A-485-805 | 8/1/17-7/31/18
SC TMK-Artrom S.A
Taiwan: Narrow Woven Ribbons With Woven Selvedge A-583-844 | 9/1/17-8/31/18
Banduoo Ltd
Fujian Rongshu Industry Co., Ltd
Maple Ribbon Co., Ltd
Roung Shu Industry Corporation
Xiamen Yi-He Textile Co., Ltd
The People's Republic of China: Certain Magnesia Carbon Bricks A-570-954 | 9/1/17-8/31/18
Fedmet Resources Corporation
Fengchi Imp. and Exp. Co., Ltd
Fengchi Imp. and Exp. Co., Ltd. of Haicheng City
Fengchi Mining Co., Ltd. of Haicheng City
Fengchi Refractories Co., of Haicheng City
Liaoning Zhongmei High Temperature Material Co., Ltd
Liaoning Zhongmei Holding Co., Ltd
RHI Refractories Liaoning Co., Ltd
Shenglong Refractories Co., Ltd
Yingkou Heping Samwha Minerals, Co., Ltd
Yingkou Heping Sanhua Materials Co., Ltd
The People's Republic of China: Certain New Pneumatic Off-the-Road Tires A-570-912 | 9/1/17-8/31/18
Laizhou Xiongying Rubber Industry Co., Ltd
Qingdao Honghua Tyre Factory
Qingdao Jinhaoyang International Co., Ltd
Triangle Tyre Co., Ltd
Weihai Zhongwei Rubber Co., Ltd
The People's Republic of China: Certain Steel Nails ⁶ A-570-909 | 8/1/17-7/31/18
Air It on Inc
A-Jax Enterprises Ltd
A-Jax International Co. Ltd
Anhui Amigo Imp.& Exp. Co. Ltd
Anhui Tea Imp. & Exp. Co. Ltd
Anjing Caiquing Hardware Co., Ltd
Asiahan Industrial Trading Ltd.*
Astrotech Steels Pvt. Ltd
Baoding Jieboshun Trading Co., Ltd.*
Beijing Catic Industry Ltd
Beijing Jinheung Co., Ltd.*
Beijing Qin-Li Jeff Trading Co., Ltd
Beijing Qin-Li Metal Industries Co., Ltd.*
Bodi Corporation
Cana (Rizhou) Hardward Co. Ltd
Cangzhou Nandagang Guotai Hardware Products Co., Ltd.*
Cangzhou Xinqiao Int'l Trade Co. Ltd
Certified Products Taiwan Inc
Changzhou Kya Trading Co. Ltd
Chanse Mechatronics Scientech Development (Jiangsu) Inc.*
Chia Pao Metal Co. Ltd
China Dinghao Co. Ltd
China Staple Enterprise Co. Ltd
Chinapack Ningbo Imp. & Exp. Co. Ltd
Chite Enterprise Co. Ltd
Chonyi International Co. Ltd.*
Crelux Int'l Co. Ltd
Daejin Steel Co. Ltd
Dezhou Hualude Hardware Products Co. Ltd
Dingzhou Baota Metal Products Co. Ltd
Dong E Fuqiang Metal Products Co. Ltd
Dream Rising Co., Ltd
Eco-Friendly Floor Ltd
Ejen Brother Limited
Everglow Inc
Everleading International Inc
Faithful Engineering Products Co. Ltd
Fastening Care
Fastgrow International Co. Inc
Foshan Hosontool Development Hardware Co. Ltd
GD CP International Ltd
GDCP International Co., Ltd
Geeky Wires Limited
Glori-Industry Hong Kong Inc
Guangdong Meite Mechanical Co. Ltd
Guangdong TC Meite Intelligent Tools Co., Ltd
Hangzhou Orient Industry Co., Ltd
Hebei Canzhou New Century Foreign Trade Co. Ltd
Hebei Jindun Trade Co., Ltd
Hebei Minghao Imp. & Exp. Co. Ltd.*
Hebei Minmetals Co., Ltd
Hengtuo Metal Products Co. Ltd
Home Value Co., Ltd.*
Hongkong Shengshi Metal Products Co., Ltd.*
Hongyi (HK) Hardware Products Co. Ltd
Huaiyang County Yinfeng Plastic Factory
Hualude International Development Co. Ltd
Huanghua Haixin Hardware Products Co., Ltd.*
Huanghua Yingjin Hardware Products
Inmax Industries Sdn. Bhd
ITW Construction Products
Jade Shuttle Enterprise Co. Ltd
Jiang Men City Yu Xing Furniture Limited Company
Jiangsu General Science Technology Co. Ltd
Jiangsu Holly Corporation
Jiangsu Huaiyin Guex Tools
Jiangsu Inter-China Group Corp
Jiangu Soho Honry Imp. and Exp. Co. Ltd
Jiaxing TSR Hardware Inc
Jinhai Hardware Co. Ltd
Jinsco International Corp
Jinsheung Steel Corporation
Koram Inc
Korea Wire Co. Ltd
Liang's Ind. Corp
Liaocheng Minghui Hardware Products
Linyi FlyingArrow Imp. & Exp. Co Ltd
M&M Industries Co., Ltd
Maanshan Lilai International Trade Co. Ltd.*
Max Co., Ltd
Milkway Chemical Supply Chain Service Co., Ltd
Mingguang Abundant Hardware Products Co. Ltd
Mingguang Ruifeng Hardware Products Co. Ltd
Modern Factory For Metal Products
Nailtech Co. Ltd
Nanjing Caiquing Hardware Co. Ltd
Nanjing Nuochun Hardware Co. Ltd
Nanjing Tianxingtong Electronic Technology Co. Ltd.*
Nanjing Tianyu International Co. Ltd.*
Nanjing Toua Hardware & Tools Co. Ltd.*
Nanjing Yuechang Hardware Co., Ltd
Nanjing Zeejoe International Trade
Nantong Intlevel Trade Co., Ltd
Natuzzi China Limited
Nielsen Bainbridge LLC
Ningbo Adv. Tools Co. Ltd
Ningbo Angelar Trading Co., Ltd
Ningbo Fine Hardware Production Co. Ltd
Ningbo Freewill Imp. & Exp Co., Ltd
Ningbo Langyi Metal Products Co., Ltd.*
Ningbo Sunrise International Ltd
Ningbo WePartner Imp. & Exp. Co., Ltd
Overseas Distribution Services Inc
Overseas International Steel Industry
Paslode Fasteners Co. Ltd
Patek Tool Co. Ltd
President Industrial Inc
Promising Way (Hong Kong) Ltd
Qingda Jisco Co. Ltd
Qingdao Ant Hardware Manufacturing Co. Ltd
Qingdao D&L Hardware Co. Ltd
Qingdao Gold Dragon Co. Ltd
Qingdao Hongyuan Nail Industry Co. Ltd
Qingdao JCD Machinery Co., Ltd
Qingdao Meijialucky Industry and Co
Qingdao MST Industry and Commerce Co. Ltd
Qingdao Powerful Machinery Co., Ltd.*
Qingdao Top Metal Industrial Co., Ltd.*
Qingdao Top Steel Industrial Co. Ltd
Qingdao Uni-Trend International
Quzhou Monsoon Hardware Co. Ltd
Region Industries Co. Ltd
Region System Sdn. Bhd
Rise Time Industrial Ltd
Romp Coil Nail Industries Inc
R-Time Group Inc
Ruifeng Hardware Products Co., Ltd
SDC International Australia Pty. Ltd
Senco Asia Manufacturing Ltd
Shandong Dinglong Imp. & Exp. Co., Ltd
Shandong Liaocheng Minghua Metal Pvt. Ltd
Shandong Liaocheng Minghua Metal Pvt. Ltd
Shandong Oriental Cherry Hardware Group Co. Ltd
Shandong Oriental Cherry Hardware Import & Export Co. Ltd
Shandong Qingyun Hongyi Hardware Co. Ltd
Shanghai Cedargreen Imp. & Exp. Co., Ltd
Shanghai Curvet Hardware Products Co. Ltd
Shanghai Curvet Hardware, Co., Ltd.*
Shanghai Haoray International Trade Co. Ltd
Shanghai Jade Shuttle Hardware Tools Co. Ltd
Shanghai Seti Enterprise Int'l Co. Ltd
Shanghai Sutek Industries Co., Ltd
Shanghai Yiren Machinery Co., Ltd
Shanghai Yueda Fasteners Co., Ltd
Shanghai Yueda Nails Co. Ltd
Shanghai Yueda Nails Co. Ltd
Shanghai Zoonlion Industrial Co., Ltd
Shanxi Easyfix Trade Co. Ltd
Shanxi Hairui Trade Co. Ltd
Shanxi Pioneer Hardware Industrial Co. Ltd
Shanxi Tianli Industries Co. Ltd
Shanxi Xinjintai Hardware Co., Ltd
Shaoxing Chengye Metal Producing Co. Ltd
Shenzhen Xinjintai Hardware Co. Ltd
S-Mart (Tianjin) Technology Development Co. Ltd.*
Stanley Black & Decker, Inc
Sueyi International Ltd
Sumec Machinery and Electric Co., Ltd.*
Suntec Industries Co. Ltd
Suzhou Xingya Nail Co. Ltd
Taizhou Dajiang Ind. Co. Ltd
Test-Rite International Co., Ltd.*
The Stanley Works (Langfang) Fastening Systems Co., Ltd
Theps International
Tianji Hweschun Fasteners Manufacturing Co. Ltd
Tianjin Baisheng Metal Products Co. Ltd
Tianjin Bluekin Indusries Ltd
Tianjin Coways Metal Products Co. Ltd
Tianjin Dagang Jingang Nail Factory
Tianjin Evangel Imp. & Exp. Co. Ltd
Tianjin Fulida Supply Co. Ltd
Tianjin Huixingshangmao Co. Ltd
Tianjin Jin Xin Sheng Long Metal Products Co. Ltd
Tianjin Jinchi Metal Products Co. Ltd
Tianjin Jinghai County Hongli Industry and Business Co. Ltd
Tianjin Jinghai Yicheng Metal Pvt
Tianjin Jinlin Pharmaceutical Factory
Tianjin Jinmao Imp. & Exp. Corp. Ltd
Tianjin Lianda Group Co. Ltd
Tianjin Liweitian Metal Technology*
Tianjin Tianhua Environmental Plastics Co. Ltd
Tianjin Universal Machinery Imp. & Exp
Tianjin Yong Sheng Towel Mill
Tianjin Yongye Furniture Co. Ltd
Tianjin Zhonglian Metals Ware Co. Ltd
Tianjin Zhonglian Times Technology
Tianjin Zhongsheng Garment Co. Ltd
Tinjin Liweitian Metal Technology
Tinjin Tiaolai Import & Export Company Ltd
Tsugaru Enterprise Co., Ltd
Unicorn Fasteners Co. Ltd
Verko Incorporated
Win Fasteners Manufactory (Thailand) Co. Ltd
Wire Products Manufacturing Co., Ltd
Wulian Zhanpeng Metals Co. Ltd
Xi'An Metals and Minerals Imp. & Exp. Co. Ltd
Xiamen Zhaotai Industrial Corp
Yongchang Metal Product Co
Youngwoo Fasteners Co., Ltd
Yuyao Dingfeng Engineering Co. Ltd
Zhanghaiding Hardware Co., Ltd
Zhangjiagang Lianfeng Metals Products Co. Ltd
Zhangjiagang Longxiang Industries Co. Ltd
Zhaoqing Harvest Nails Co. Ltd
Zhejiang Best Nail Industry Co. Ltd
Zhejiang Jihengkang (JHK) Door Ind. Co. Ltd
Zhejiang Saiteng New Building Materials Co., Ltd.*
Zhejiang Yiwu Yongzhou Imp. & Exp. Co. Ltd
Zhong Shan Daheng Metal Products Co. Ltd
Zhong Shan Shen Neng Metals Products Co. Ltd
Zhucheng Jinming Metal Products Co. Ltd
Zhucheng Runfang Paper Co. Ltd
The People's Republic of China: Freshwater Crawfish Tailmeat A-570-848 | 9/1/17-8/31/18
Anhui Luan Hongyuan Foodstuffs Co., Ltd
China Kingdom (Beijing) Import & Export Co., Ltd
Deyan Aquatic Products and Food Co., Ltd
Hubei Nature Agriculture Industry Co., Ltd
Hubei Qianjiang Huashan Aquatic Food and Product Co., Ltd
Hubei Yuesheng Aquatic Products Co., Ltd
Jingzhou Tianhe Aquatic Products Co., Ltd
Kunshan Xinrui Trading Co., Ltd
Nanjing Gemsen International Co., Ltd
Nanjing Yinxiangchen International Trade Co., Ltd
Shanghai Ocean Flavor International Trading Co., Ltd
Weishan Hongda Aquatic Food Co., Ltd
Xiping Opeck Food Co., Ltd
Xuzhou Jinjiang Foodstuffs Co., Ltd
Yangcheng Hi-King Agriculture Developing Co., Ltd
The People's Republic of China: Hydrofluorocarbon Blends ⁷ A-570-028 | 8/1/17-7/31/18
Daikin Fluorochemicals (China) Co., Ltd
Zhejiang Sanmei Chemical Industry Co., Ltd
Weitron International Refrigeration Equipment (Kunshan) Co., Ltd
Turkey: Heavy Walled Rectangular Welded Carbon Steel Pipes and Tubes A-489-824 | 9/1/17-8/31/18
Agir Haddecilik A.S
Cinar Boru Profil San Ve Tic Stl
MTS Lojistik ve Tasimacilik Hizmetleri TIC A.S. Istanbul
Noksel Celik Boru Sanayi A
Ozedemir Boru Profil San. ve Tic. Ltd. Sti
Turkey: Oil Country Tubular Goods A-489-816 | 9/1/17-8/31/18
Cayirova Boru San A.S
Çayirova Boru Sanayi ve Ticaret A.Ş. and Yücel Boru Ithalat-Ihracat ve
Pazarlama A.Ş. (collectively Yücel)
HG Tubulars Canada Ltd
Toscelik Single Entity (The Toscelik Single Entity comprises the following companies: Toscelik Profil ve Sac Endustrici A.S and its affiliates Tosyali Dis Ticaret A.S., Tosyali Demir Celik A.S., Tosyali Holding A.S., Toscelik Granul San A.S., Tosyali Elektrik Enerjsi Toptan Satis, Tosyali Elek Enerjsi Uretim A.S., and Toscelik Spiral Boru Uretim San A.S.)
Yucelboru Ihracat, Ithalat
United Kingdom: Cold-Rolled Steel Flat Products A-412-824 | 9/1/17-8/31/18
Caparo Precision Strip, Ltd./Liberty Performance Steels, Ltd.⁸
Countervailing Duty Proceedings
India: Lined Paper Products C-533-844 | 1/1/17-12/31/17
Goldenpalm Manufacturers PVT Limited
Republic of Korea: Certain Cold-Rolled Steel Flat Products C-580-882 | 1/1/17-12/31/17
Dongbu Steel Co., Ltd
Hyundai Steel Company
POSCO
Dongbu Incheon Steel Co., Ltd
Dongbu Steel Incheon Steel Co., Ltd
Dongkuk Steel Mill Co., Ltd
Dongkuk Industries Co., Ltd
Euro Line Global Co., Ltd
Hanawell Co., Ltd
Hankum Co., Ltd
Hyuk San Profile Co., Ltd
Hyundai Steel Co., Ltd
Nauri Logistics Co., Ltd
Taihan Electric Wire Co., Ltd
Union Steel Co., Ltd
The People's Republic of China: Certain Magnesia Carbon Bricks C-570-955 | 1/1/17-12/31/17
Fedmet Resources Corporation
Fengchi Imp. and Exp. Co., Ltd
Fengchi Imp. and Exp. Co., Ltd. of Haicheng City
Fengchi Mining Co., Ltd. of Haicheng City
Fengchi Refractories Co., of Haicheng City
Liaoning Zhongmei High Temperature Material Co., Ltd
Liaoning Zhongmei Holding Co., Ltd
RHI Refractories Liaoning Co., Ltd
Shenglong Refractories Co., Ltd
Yingkou Heping Samwha Minerals, Co., Ltd
Yingkou Heping Sanhua Materials Co., Ltd
The People's Republic of China: Certain New Pneumatic Off-the-Road Tires C-570-913 | 1/1/17-12/31/17
Laizhou Xiongying Rubber Industry Co., Ltd
Qingdao Jinhaoyang International Co., Ltd
Triangle Tyre Co., Ltd
Weihai Zhongwei Rubber Co., Ltd
The People's Republic of China: Certain Passenger Vehicle and Light Truck Tires ⁹ C-570-017 | 1/1/17-12/31/17
Qingzhou Detai International Trading Co., Ltd
The People's Republic of China: Narrow Woven Ribbons with Woven Selvedge C-570-953 | 1/1/17-12/31/17
Yama Ribbons and Bows Co., Ltd
Turkey: Heavy-Walled Rectangular Welded Carbon Steel Pipes and Tubes C-489-825 | 1/1/17-12/31/17
Agir Haddecilik A.S
Cinar Boru Profil San Ve Tic Stl
MTS Lojistik ve Tasimacilik Hizmetleri TIC A.S. Istanbul
Noksel Celik Boru Sanayi A
Ozdemir Boru Profil San. Ve Tic. Ltd. Sti
Turkey: Oil Country Tubular Goods C-489-817 | 1/1/17-12/31/17
Borusan Mannesamann Boru Sanayi ve Ticaret A.S
Borusan Istikbal Ticaret T.A.S
⁵ The name of the company listed above was misspelled in the initiation notice that published on October 4, 2018 (83 FR 50077). The correct spelling of the company name is listed in this notice.
⁶ In the initiation notice that published on October 4, 2018 (83 FR 50077), Commerce inadvertently made several errors with respect to the initiation of this review. This notice serves as a correction to the October initiation notice. Specifically, the companies with an “*” after their names were left off the list in the October notice. Moreover, the following companies that were listed in the October 4, 2018 notice are not under review: Hangzhou Spring Washer Co. Ltd., Home International Development Co. Ltd., and Tianjin Huixishangmao Co. Ltd. In addition, we hereby correct the names of the following companies: Shanxi Hairui Trade Co. Ltd., Shenzhen Xinjintai Hardware Co. Ltd., and Unicorn Fasteners Co. Ltd.
⁷ In the initiation notice that published on October 4, 2018 (83 FR 50077), Commerce inadvertently misspelled the company names listed above. The correct spelling of the company names is listed in this notice. In addition, we inadvertently initiated an administrative review for Weitron, Inc., the affiliated U.S. reseller of Weitron International Refrigeration Equipment (Kunshan) Co., Ltd. See Weitron International Refrigeration Equipment (Kunshan) Co., Ltd.'s Letter, “Request for Administrative Review of the Antidumping Duty Order on Hydrofluorocarbon Blends and Components Thereof from the People's Republic of China (A-570-028),” dated August 31, 2017, showing that Weitron, Inc. is the U.S. affiliated reseller of this Chinese exporter.
⁸ We have previously determined that Liberty Performance Steels Ltd. is the successor-in-interest to Caparo Precision Strip, Ltd.
⁹ The name of the company listed above was misspelled in the initiation notice that published on October 4, 2018 (83 FR 50077). The correct spelling of this company name is listed in this notice.

Suspension Agreements

None

Duty Absorption Reviews

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant provisional-measures “gap” period, of the order, if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the final rule, available at http://enforcement.trade.gov/frn/2013/1304frn/2013-08227.txt, prior to submitting factual information in this segment.

Any party submitting factual information in an antidumping duty or countervailing duty proceeding must certify to the accuracy and completeness of that information.¹⁰ Parties are hereby reminded that revised certification requirements are in effect for company/government officials as well as their representatives. All segments of any antidumping duty or countervailing duty proceedings initiated on or after August 16, 2013, should use the formats for the revised certifications provided at the end of the Final Rule.¹¹ Commerce intends to reject factual submissions in any proceeding segments if the submitting party does not comply with applicable revised certification requirements.

¹⁰ See section 782(b) of the Act.

¹¹ See Certification of Factual Information To Import Administration During Antidumping and Countervailing Duty Proceedings, 78 FR 42678 (July 17, 2013) (Final Rule); see also the frequently asked questions regarding the Final Rule, available at http://enforcement.trade.gov/tlei/notices/factual_info_final_rule_FAQ_07172013.pdf.

Extension of Time Limits Regulation

Parties may request an extension of time limits before a time limit established under part 351 expires, or as otherwise specified by the Secretary. See 19 CFR 351.302. In general, an extension request will be considered untimely if it is filed after the time limit established under part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning U.S. Customs and Border Protection data; and (5) quantity and value questionnaires. Under certain circumstances, Commerce may elect to specify a different time limit by which extension requests will be considered untimely for submissions which are due from multiple parties simultaneously. In such a case, Commerce will inform parties in the letter or memorandum setting forth the deadline (including a specified time) by which extension requests must be filed to be considered timely. This modification also requires that an extension request must be made in a separate, stand-alone submission, and clarifies the circumstances under which Commerce will grant untimely-filed requests for the extension of time limits. These modifications are effective for all segments initiated on or after October 21, 2013. Please review the final rule, available at http://www.gpo.gov/fdsys/pkg/FR-2013-09-20/html/2013-22853.htm, prior to submitting factual information in these segments.

These initiations and this notice are in accordance with section 751(a) of the Act (19 U.S.C. 1675(a)) and 19 CFR 351.221(c)(1)(i).

Dated: November 8, 2018.
James Maeder,
Associate Deputy Assistant Secretary for Antidumping and Countervailing Duty Operations performing the duties of Deputy Assistant Secretary for Antidumping and Countervailing Duty Operations.

[FR Doc. 2018-24943 Filed 11-14-18; 8:45 am]

BILLING CODE 3510-DS-P